DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Protection and Advocacy for Individuals With Mental Illness (PAIMI) Final Rule, 42 CFR Part 51 (OMB No. 0930-0172)—Extension

These regulations meet the directive under 42 U.S.C. 10826(b) requiring the Secretary to promulgate final regulations to carry out the PAIMI Act. The regulations contain information collection requirements. The Act authorizes funds to support activities on behalf of individuals with significant (severe) mental illness (adults) or emotional impairment (children/youth) [42 U.S.C. 10802(4)]. Only entities that are designated by the governors of each State, the District of Columbia (Mayor), five (5) jurisdictions (American Samoa, Guam, the Commonwealth of the Northern Mariana Islands, The Commonwealth of Puerto Rico, and the U.S. Virgin Islands), and the American Indian Consortium (the Tribal Councils of the Hopi and Navajo Nations in the Southwest) to protect and advocate the rights of persons with developmental disabilities under Title I, Subtitle C—Protection and Advocacy of Individual Rights of the Developmental Disabilities Assistance and Bill of Rights Act of 2000 [42 U.S.C. 150041 et seq.], are eligible to receive PAIMI Program grants [42 U.S.C. 10802 (2)]. These grants are based on a formula prescribed by the Secretary [42 U.S.C. at 10822(a)(1)(A)].

On January 1, each eligible State protection and advocacy (P&A) system is required to prepare a report that describes its activities, accomplishments, and expenditures to protect the rights of individuals with mental illness supported with payments from PAIMI Program allotments during the most recently completed fiscal year. The PAIMI Act at 42 U.S.C. 10824(a) requires that each P&A system transmit a copy of its annual report to the Secretary (via SAMHSA/CMHS) and to the State Mental Health Agency where the system is located. These annual PAIMI Program Performance Reports (PPR) to the Secretary must include the following information:

• The number of (PAIMI-eligible) individuals with mental illness served;

• A description of the types of activities undertaken;

• A description of the types of facilities providing care or treatment to which such activities are undertaken;

• A description of the manner in which the activities are initiated;

• A description of the accomplishments resulting from such activities;

• A description of systems to protect and advocate the rights of individuals with mental illness supported with payments from PAIMI Program allotments;

• A description of activities conducted by States to protect and advocate such rights;

• A description of mechanisms established by residential facilities for individuals with mental illness to protect such rights;

• A description of the coordination among such systems, activities and mechanisms;

• Specification of the number systems that are public and nonprofit systems established with PAIMI Program allotments;

• Recommendations for activities and services to improve the protection and advocacy of the rights of individuals with mental illness and a description of the need for such activities and services that were not met by the State P&A systems established under the PAIMI Act due to resource or annual program priority limitations.

** [The PAIMI Rules [42 CFR 51.32(b)] state that P&A systems may place restrictions on case or client acceptance criteria developed as part of its annual PAIMI priorities. Each P&A system is required to inform prospective clients of any such restrictions when he/she requests a service].

This PAIMI PPR summary must include a separate section, prepared by the PAIMI Advisory Council (PAC) that describes the council's activities and its assessment of the operations of the State P&A system [42 U.S.C. 10805(7)].

The estimated annual burden under the PAIMI Final Rule is summarized below:

42 CFR citation | Number of respondents | Responses per respondent | Burden/ response (hrs.) | Total hour burden
* 51.8(a)(2) Program Performance Report | 57 | 1 | 26 | (1482)
* 51.8(8)(a)(8) Advisory Council Report | 57 | 1 | 10 | (570)
51.10 Remedial Actions:
Corrective Action Plan | 7 | 1 | 8 | 56
Implementation Status Reports | 7 | 3 | 2 | 42
51.23(c) Reports, materials and fiscal data provided to the PAC | 57 | 1 | 1 | 57
51.25(b)(3) Grievance Procedure | 57 | 1 | 0.5 | 29
† 51.43 Written denial of access by P&A system |  |  |  |
Total | 57 |  |  | 184
* Responses and burden hours associated with these reports were approved under OMB Control No. 0930-0169.

Written comments and recommendations concerning the proposed information collection should be sent by March 5, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: January 27, 2010.
Elaine Parry,
Director, Office of Program Services.

[FR Doc. 2010-2239 Filed 2-2-10; 8:45 am]

BILLING CODE 4162-20-P